DEPARTMENT OF JUSTICE

Notice of Lodging of Consent Decree Under the Comprehensive Environmental Response, Compensation, and Liability Act

Notice is hereby given that on October 8, 2010 a proposed consent decree (“proposed Decree”) in United States v. Albert Investment Co., Inc., et al., Civil Action No. 08-637C, was lodged with the United States District Court for the Western District of Oklahoma.

In this action under Section 107(a) of the Comprehensive Environmental Response, Compensation, and Liability Act, 42 U.S.C. 9607(a) (“CERCLA”), the United States and State of Oklahoma's complaint seeks reimbursement of response costs incurred or to be incurred for response actions taken and damages for injury to, destruction of, or loss of natural resources, including the reasonable costs of assessing such injury destruction or loss, at or in connection with the release or threatened release of hazardous substances at the Double Eagle Superfund Site, in Oklahoma City, Oklahoma.

The proposed Decree is an amended version of an earlier Decree which was lodged in the case, and which has now been withdrawn. The proposed Decree requires the defendants to pay approximately $6,268,643 to the United States and the State in reimbursement of past response costs and $329,929 in state and federal natural resource damages. The proposed Decree provides the defendants with a covenant not to sue under Sections 106 and 107(a) of CERCLA, 42 U.S.C. 9606 and 9607(a) that are subject various reopeners and reservations.

The Department of Justice will receive for a period of thirty (30) days from the date of this publication comments relating to the proposed Decree. Comments should be addressed to the Assistant Attorney General, Environment and Natural Resources Division, and either e-mailed to pubcomment-ees.enrd@usdoj.gov or mailed to P.O. Box 7611, U.S. Department of Justice, Washington, DC 20044-7611, and should refer to United States v. Albert Investment Co., Inc., et al., D.J. Ref. 90-11-2-857/5.

The proposed Decree may be examined at the Office of the United States Attorney for the Western District of Oklahoma, 210 Park Avenue, Suite 400, Oklahoma City, Oklahoma 73102, 1445 Ross Avenue, Suite 1200, Dallas, Texas 75202. During the public comment period, the proposed Decree may also be examined on the following Department of Justice Web site: http://www.usdoj.gov/enrd/Consent_Decrees.html. A copy of the proposed Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $20.25 (25 cents per page reproduction cost) payable to the U.S. Treasury or, if by e-mail or fax, forward a check in that amount to the Consent Decree Library at the stated address.

Maureen Katz,
Assistant Chief, Environmental Enforcement Section, Environment and Natural Resources Division.

[FR Doc. 2010-26136 Filed 10-15-10; 8:45 am]

BILLING CODE 4410-15-P